DEPARTMENT OF DEFENSE

Office of the Secretary

[Docket ID: DoD-2013-OS-0231]

Proposed Collection; Comment Request

AGENCY: Washington Headquarters Services (WHS) Facilities Services Directorate (FSD) Integrated Services Division (ISD), DoD.

ACTION: Notice.

SUMMARY: In compliance with Section 3506(c)(2)(A) of the Paperwork Reduction Act of 1995, the Washington Headquarters Services (WHS) Facilities Services Directorate (FSD) Integrated Services Division (ISD) announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by February 18, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please contact Lisa Passagaluppi, Transportation Program Manager, WHS/FSD/ISD, 571-372-7140 or 703-614-6421.

SUPPLEMENTARY INFORMATION:

Title and OMB Control Number: 2014 Pentagon/Mark Center Transportation Commuter Survey; OMB Control Number 0704-TBD.

Needs and Uses:

Per requirements in the Administrative Instruction (AI) 109, and the National Capital Planning Commission (NCPC) approved Base Relocation and Closure (BRAC) #133 Transportation Management Plan (TMP), the WHS Transportation Management Program Office (TMPO) will conduct surveys of both Federal and non-Federal employees in order to monitor the effectiveness of the various Pentagon and Mark Center Transportation Programs and Strategies.

The purpose of the surveys is to gather travel mode choice information from DoD employees and contractors located at the Pentagon and Mark Center. Information gathered from this effort will be used to refine the DoD shuttle service and travel demand management strategies currently being implemented at each facility to reduce traffic congestion. The results of the transportation/commuter surveys will be utilized to accomplish the aforementioned tasks and to support future transportation related improvement efforts to enhance transportation to and from the Pentagon, Mark Center and DoD facilities in the National Capital Region.

Affected Public: Individuals and Households.

Annual Burden Hours: 4,001.

Number of Respondents: 16,005.

Responses per Respondent: 1.

Average Burden per Response: 15 minutes.

Frequency: Annual.

The 2014 Pentagon/Mark Center Transportation/Commuter Surveys will be administered through the use of technological collection techniques, such as the proprietary DoD Interactive Customer Evaluation (ICE) Survey Application.

Dated: December 13, 2013.
Aaron Siegel,
Alternate OSD Federal Register Liaison Officer, Department of Defense.

[FR Doc. 2013-30101 Filed 12-17-13; 8:45 am]

BILLING CODE 5001-06-P